DEPARTMENT OF THE INTERIOR

Fish and Wildlife Service

Fiscal Year 2006 Landowner Incentive Program (Non-Tribal Portion) for States, Territories, and the District of Columbia

AGENCY: Fish and Wildlife Service, Interior.

ACTION: Notice; request for comments.

SUMMARY: The Service is requesting comments on the Landowner Incentive Program (LIP) criteria for awarding conservation grants to States, the District of Columbia, the Commonwealths of Puerto Rico and the Northern Mariana Islands, and the Territories of Guam, the United States Virgin Islands, and American Samoa (all hereafter referred to collectively as States). Comments are requested on a change in the funding cap for States and a revision of the national Review Team Ranking Criteria Guidance.

DATES: The Service must receive your comments no later than October 31, 2005.

ADDRESSES: Interested parties are required to submit their comments in two formats: Electronic (e.g., Word, or PDF files) and hard copy. Electronic files must be sent to Genevieve_LaRouche@fws.gov. In addition, hard copy of comments must be hand-delivered, couriered; or mailed to the Service's Division of Federal Assistance at 4401 North Fairfax Drive—Mailstop MBSP 4020, Arlington, VA 22203-1610.

FOR FURTHER INFORMATION CONTACT: Genevieve Pullis LaRouche, U.S. Fish and Wildlife Service, Division of Federal Assistance, 4401 North Fairfax Drive—Mailstop MBSP 4020, Arlington, VA 22203-1610; telephone, 703-358-1854; e-mail, Genevieve_LaRouche@fws.gov.

SUPPLEMENTARY INFORMATION: The Service is soliciting comments from individuals, government agencies, environmental groups, or any other interested parties concerning the proposed revisions to the LIP Tier 2 ranking criteria.

Background

In 2004 we invited comments from the State Fish and Wildlife agencies regarding proposal ranking criteria the Service uses in evaluating Tier-2 grants for LIP. Based on those comments, some revisions to the ranking criteria were made prior to issuance of the request for proposals (RFP) for Fiscal Year (FY) 2005 Tier 2 grants (70 FR 7959, February 16, 2005). Following review of the FY 2005 Tier 2 proposals, we made further changes to the Grant Proposal National Review Team Ranking Criteria Guidance. These changes were based upon the 2004 comments received from the States, further comment regarding experience using the FY 2005 criteria revisions, and our experience operating this program for 4 years. In the latest revisions to the criteria, we revised the criteria format to be consistent with the standard grant proposal format (522 FW 1.3C), added a new criterion regarding expenditure of previously awarded funds, clarified existing criteria, and revised the maximum funding a State may receive to 3 percent. We hope that these changes will provide greater clarity to the selection criteria and improve the overall fairness of the approval process.

Comments are requested on the following proposed changes-

A. We propose to revise the maximum funding a single State may receive from 5 percent to 3 percent of the total awarded to the States in a fiscal year.

B. We propose the following revisions to the National Review Team Ranking Criteria Gudiance for LIP Tier 2 Grant Proposals:

Landowner Incentive Program (LIP) National Review Team Ranking Criteria Guidance for Tier 2 Grant Proposals

State: ______

1. OVERALL—Proposal provides clear and sufficient detail to describe the State's use of awarded funds from the LIP, and the State's program has high likelihood for success. (5 points total)

a. Proposal is easy to understand and contains all elements described in 522 FW 1.3C: Need; Objective; Expected Results and Benefits; Approach; and Budget. (0-2 pts)

b. Proposal, taken as a whole, demonstrates that the State can implement a Landowner Incentive Program that has a high likelihood for success in conserving at-risk species on private lands (e.g., the program has agency support and staff commitment; administrative processes are already established including the ability and authority to enter into financial agreements with private landowners; the program has had past successes, etc). (0-3 pts)

2. NEED—Proposal describes the urgency for implementing a LIP. States should describe how their LIP is a part of a broader scale conservation effort at the State or regional level. (6 points total)

a. Proposal clearly describes the urgency of need for a LIP to benefit at-risk species in the State. (0-2 pts)

b. Proposal clearly describes conservation needs for targeted at-risk species that relate directly to objectives and conservation actions described in other sections of the proposal. (0-2 pts)

c. Proposal provides specific examples of how the State's LIP program will address conservation needs for at-risk species identified at the national, State, and regional level [e.g., Comprehensive Wildlife Conservation Strategy (CWCS), recovery plans, etc.]. (0-2 pts)

3. OBJECTIVES—Proposal provides clear objectives that specify fully what is to be accomplished (5 points total)

The objectives of the proposal describe discrete, obtainable, and quantifiable outcomes to be accomplished (e.g., the number of acres of wetlands, or other types of habitat, and stream miles to be restored, and/or the number of at-risk species whose status within the State will be improved). (0-5 pts)

4. EXPECTED RESULTS AND BENEFITS—Proposal clearly describes how the activities will benefit targeted at-risk species. (14 points total)

a. Proposal describes by name the species-at-risk to benefit from the proposal. (0-1 pt)

b. Proposal identifies habitat requirements for these targeted at-risk species. (0-2 pts)

c. Proposal describes conservation actions to be undertaken that will address current threats to the at-risk species and their habitats. (0-3 pts)

d. Proposal explains how conservation actions will result in benefits. (0-3 pts)

e. Proposal describes the short-term benefits for at-risk species to be achieved within a 5- to 10-year period. (0-2 pts)

f. Proposal describes the long-term benefits for at-risk species to be achieved beyond 10 years. (0-3 pts)

5. APPROACH—Proposal clearly describes how program objectives, contractual and fiscal management, and fund distribution will be accomplished and monitored. (24 points total)

Program Implementation

a. Proposal describes the types of conservation projects and/or activities eligible for funding. (0-2 pts)

b. Proposal describes how conservation projects and/or activities will implement portions of conservation plans at a local, State, regional, or national scale, including the CWCS. (0-2 pts)

Fiscal Administrative Procedures—Proposal describes adequate management systems for fiscal and contractual accountability.

c. Processes to ensure fiscal accountability between the State and participating landowners are clearly described. (0-2 pts)

d. Standards and processes to ensure contractual accountability between the State and the participating landowner are clearly described. (0-2 pts)

e. Proposal indicates that the State has an approved legal instrument to enter into agreements with landowners. (0-1 pt)

System for Fund Distribution—Proposal describes the State's fair and equitable system for fund distribution.

f. System described is inherently fair and free from bias. (0-2 pts)

g. Proposal describes State's ranking criteria and process to select projects and includes a ranking form with criteria and assigned points. (0-3 pts)

h. States' ranking criteria are adequate to prioritize projects based on conservation priorities identified in proposal. (0-2 pts)

i. Project proposals will be (or were) subject to an objective ranking procedure (e.g., internal ranking panel, diverse ranking panel comprising external agency members and/or members of the public, computerized ranking model). (0-2 pts)

Monitoring—Proposal describes State's biological and compliance monitoring plan for LIP including annual monitoring and evaluation of progress toward desired program objectives, results, and benefits.

j. Proposal describes compliance monitoring that will ensure accurate and timely evaluation to determine that landowners have completed agreed-upon practices in accordance with landowner agreement, and that includes the process for addressing landowners who fail to comply with agreements. (0-3 pts)

k. Proposal describes biological monitoring that will ensure species and habitats are monitored and evaluated adequately to determine the effectiveness of LIP-sponsored activities (Items to address in monitoring may include establishing baselines, monitoring standards, establishing timeframes for conducting monitoring activities, and setting expectations for monitoring.) (0-3 pts)

6. BUDGET—Proposal clearly identifies funds for use on private lands, identifies percentage of cost match, and identifies past funding awards. (14 points total)

a. Proposal describes the percentage of the State's total LIP Tier-2 program fund identified for use on private lands as opposed to staff and related administrative support (admin). (4 points total)

0 points if this is not addressed or admin is >35%

1 point if admin is >25 to 35%

2 points if admin is >15 to 25%

3 points if admin is >5 to 15%

4 points if admin is 0 to 5%

Use on private lands includes all costs directly related to implementing on-the-ground projects with LIP funds. Activities considered project use include: Technical guidance to landowner applicants; habitat restoration, enhancement, or management; purchase of conservation easements (including costs for appraisals, land survey, legal review, etc); biological monitoring of Tier 2 project sites; and performance monitoring of Tier 2 projects. Staffing costs should only be included in this category when the staff-time will directly relate to implementation of a Tier 2 project. Standard Indirect rates negotiated between the State and Federal government should also be included under Project Use.

Staff and related administrative support include outreach (presentations, development or printing of brochures, etc.); planning; research; administrative staff support; staff supervision; and overhead charged by subgrantees unless the rate is no approved negotiated rate for Federal grants.

b. Proposal identifies the percentage of nonfederal cost sharing. (3 points total).

(Note: I.T.=Insular Territories)

0 points if nonfederal cost share is 25%

1 point if nonfederal cost share is >25% to 30% (>0 to 25% I.T.)

2 points if nonfederal cost share is > 30% to 35% (>25 to 30% I.T.)

3 points if nonfederal cost share is >35% (>30% I.T.)

c. Has applicant received Tier 2 grant funds previously? (2 points total)

0 points if State has received Tier 2 funds previously or has not applied for Tier-2 funds previously

1 point if State has applied 2 of 3 previous years and no funds were awarded

2 points if State has applied 3 previous years and no funds were awarded

d. Proposal identifies percentage of previously awarded funds (exclude last fiscal year's awarded funds) that have been expended or encumbered (landowners that are under signed contract to conduct on-the-ground projects) (5 points total)

0 points if less than 50% of the funds are expended for on-the-ground project

1 point if >50% of the funds are expended for on-the-ground project

2 points if >60% of the funds are expended for on-the-ground project

3 points if >70% of the funds are expended for on-the-ground project

4 points if >80% of the funds are expended for on-the-ground project

5 points if >90% of the funds are expended for on-the-ground project

Total Score Possible=68 points

Total Score__

Dated: August 5, 2005
Mitch King,
Assistant Director—Wildlife and Sport Fish Restoration Programs.

[FR Doc. 05-18415 Filed 9-15-05; 8:45 am]

BILLING CODE 4310-55-M